DEPARTMENT OF ENERGY

Bonneville Power Administration

Plymouth Generating Facility

AGENCY: Bonneville Power Administration (BPA), Department of Energy (DOE).

ACTION: Notice of intent to prepare an Environmental Impact Statement (EIS).

SUMMARY: This notice announces BPA's intention to prepare a joint National Environmental Policy Act (NEPA)/State Environmental Policy Act (SEPA) EIS in cooperation with Benton County, State of Washington, for an electrical interconnection including a new one-mile transmission line and other facilities associated with a proposed powerplant. BPA is the lead Federal agency under NEPA and Benton County is the lead Washington State agency under SEPA. The Plymouth Generating Facility is a 306-megawatt (MW) generating station proposed by Plymouth Energy, L.L.C. (PE) that would be located near the town of Plymouth in Benton County, Washington. PE has requested an interconnection to BPA's transmission system that would allow firm power delivery to the wholesale power market. BPA proposes to execute an agreement with PE to provide the interconnection and firm power transmission.

ADDRESSES: To be placed on the project mailing list, including notification of proposed meetings, call toll-free 1-800-622-4520, name this project, and leave your complete name and address. To comment, call toll-free 1-800-622-4519; send an e-mail to the BPA Internet address comment@bpa.gov; or send a letter to Communications, Bonneville Power Administration—KC-7, PO Box 12999, Portland, Oregon, 97212.

FOR FURTHER INFORMATION, CONTACT: Philip W. Smith, Bonneville Power Administration—KEC-4, PO Box 3621, Portland, Oregon, 97208-3621; toll-free telephone 1-800-282-3713; direct telephone 503-230-3294; or e-mail [pwsmith@bpa.gov]. Additional information can be found at BPA's Web site: www.efw.bpa.gov.

SUPPLEMENTARY INFORMATION: The EIS will assess the environmental consequences of the proposed project, including:

• Interconnection agreement that BPA proposes with PE;

• Construction and operation of the powerplant;

• Construction and operation of an approximately 800-foot, 6-inch diameter gas line to tie into Williams Northwest Pipeline Company's Plymouth Compressor Station pipeline;

• Construction and operation of a rail spur near the powerplant site for use during powerplant construction; and

• Construction and operation of an interconnection consisting of a substation and approximately one mile of 230-kV or 500-kV transmission line from the substation to either the existing BPA McNary-Big Eddy 230-kV transmission line or the proposed, new BPA McNary-John Day 500-kV transmission line.

The powerplant and the gas and power interconnections would all be located within Benton County, Washington.

Responsibility for construction and operation of the new facilities is principally with PE who would build and operate the powerplant. However, the transmission would be constructed under BPA's management, and BPA would be responsible for the operation and maintenance of these transmission facilities. Williams Northwest Pipeline Company would build and operate the proposed approximately 800-foot gas pipeline that would supply fuel to the powerplant.

Proposed Action: The Plymouth Generating Facility would be a natural gas-fired, combined-cycle combustion turbine powerplant with a nominal generating capacity of approximately 306 MW. The plant site would be on approximately 44 acres zoned for agricultural use (with energy projects permitted as conditional uses) and located about 6 miles west of Plymouth, Washington.

Natural gas would be burned in a gas turbine engine, in which the expanding gases from combustion would turn the turbine's rotor, driving a generator to produce electrical energy. Hot exhaust from the gas turbine would be used to boil water using a heat recovery steam generator (HRSG). Steam produced by the HRSG turns a steam turbine, which would connect to another generator, producing additional electrical energy.

The Plymouth Generating Facility would consist of a single gas turbine generator, heat recovery steam generator and steam turbine generator. Steam cycle cooling would utilize an air cooled condenser and a conventional mechanical draft tower in combination to minimize water use.

Water would be required to generate steam, for cooling and for sanitary uses. The proposed powerplant would require 1,241 gallons per minute of water under average conditions and use no more than 1000 acre feet per year. PE proposes to use on-site wells and to return wastewater flows from plant operations for agricultural irrigation.

PE proposes that project storm water be collected in retention and filtration ponds located at the south side of the property.

The proposed Plymouth Generation Facility would deliver electricity to the regional power grid through an interconnection with either the existing BPA McNary-Big Eddy 230-kV transmission line or the new, proposed BPA McNary-John Day 500-kV transmission line.

Process to Date: BPA is the lead Federal agency for the joint NEPA/SEPA EIS, and Benton County is the lead Washington State agency. Benton County has received a SEPA Checklist and determined that preparation of an EIS is required. Benton County has scheduled a public meeting to be held on January 24, 2002, at Patterson, Washington, to obtain public input concerning the scope of the EIS. An additional EIS scoping meeting will be scheduled and announced by direct mail and through local media.

Alternatives Proposed for Consideration: Alternatives thus far identified for evaluation in the EIS are (1) the proposed action, (2) alternative sites within the property under lease by PE, (3) alternative transmission line interconnections, and (4) no action. Other alternatives may be identified through the scoping process.

Identification of Environmental Issues: Benton County will prepare an EIS consistent with its responsibilities under Chapter 43.21C of the Revised Code of Washington and Chapter 197-11 of the Washington Administrative Code. PE has requested transmission interconnection and firm transmission service. Such an action triggers a need for BPA to prepare NEPA documentation. Therefore, BPA and Benton County intend to prepare a joint NEPA/SEPA EIS addressing both the powerplant and the associated electric power interconnection and transmission facilities. The principal issues identified thus far for consideration in the Draft EIS are (1) air quality impacts, (2) aesthetic and visual impacts, (3) socio-economic impacts including transportation impacts, (4) wetlands and wildlife habitat impacts, (5) cultural resource impacts, (6) water supply and quality impacts, (7) health and safety impacts, and (8) noise impacts from plant operation. These issues, together with any additional significant issues identified through the scoping process, will be addressed in the EIS. BPA will also use the EIS and NEPA process to address historic preservation and cultural resource issues under Section 106 of the National Historic Preservation Act.

Public Participation: A public scoping meeting will be held at Patterson, Washington, on January 24, 2002. Representatives of BPA and Benton County will be available to receive oral and written public comment. An additional meeting will be scheduled and announced by direct mail and through local media. We request public and agency comments on the scope of the EIS by March 15, 2002.

Receiving comments from interested parties will assure that BPA and Benton County address in the EIS the full range of issues and potentially significant impacts related to the proposed project. When completed, a draft EIS will be circulated for review and comment, and BPA and Benton County will hold at least one public comment meeting on the draft EIS. BPA and Benton County will consider and respond in a final EIS to comments received on the draft EIS.

Issued in Portland, Oregon, on January 11, 2002.
Stephen J. Wright,
Acting Administrator and, Chief Executive Officer.

[FR Doc. 02-1469 Filed 1-18-02; 8:45 am]

BILLING CODE 6450-01-P